DEPARTMENT OF COMMERCE

National Oceanic and Atmospheric Administration

[I.D. 083104D]

Endangered and Threatened Species; Take of Anadromous Fish

AGENCY: National Marine Fisheries Service (NMFS), National Oceanic and Atmospheric Administration (NOAA), Commerce.

ACTION: Applications for four scientific research permits (1203, 1498, 1502, 1504).

SUMMARY: Notice is hereby given that NMFS has received four scientific research permit applications relating to Pacific salmon and steelhead. All of the proposed research is intended to increase knowledge of species listed under the Endangered Species Act (ESA) and to help guide management and conservation efforts.

DATES: Comments or requests for a public hearing on the applications must be received at the appropriate address or fax number (see ADDRESSES) no later than 5 p.m. Pacific daylight-saving time on October 7, 2004.

ADDRESSES: Written comments on the applications should be sent to Protected Resources Division, NMFS, F/NWO3, 525 NE Oregon Street, Suite 500, Portland, OR 97232-2737. Comments may also be sent via fax to 503-230-5435 or by e-mail to resapps.nwr@NOAA.gov.

FOR FURTHER INFORMATION CONTACT: Garth Griffin, Portland, OR (ph.: 503-231-2005, Fax: 503-230-5435, e-mail: Garth.Griffin@noaa.gov). Permit application instructions are available at http://www.nwr.noaa.gov.

SUPPLEMENTARY INFORMATION:

Species Covered in this Notice

The following listed species and evolutionarily significant units (ESUs) are covered in this notice:

Chinook salmon (Oncorhynchus tshawytscha): endangered naturally produced and artificially propagated upper Columbia River (UCR); threatened naturally produced and artificially propagated SR spring/summer (spr/sum); threatened naturally produced and artificially propagated Puget Sound (PS).

Chum salmon (O. keta): threatened Hood Canal summer-run (HC).

Steelhead (O. mykiss): threatened middle Columbia River (MCR); endangered UCR.

Authority

Scientific research permits are issued in accordance with Section 10(a)(1)(A) of the ESA (16 U.S.C. 1531 et seq.) and regulations governing listed fish and wildlife permits (50 CFR 222-226). NMFS issues permits/modifications based on findings that such permits and modifications: (1) are applied for in good faith; (2) if granted and exercised, would not operate to the disadvantage of the listed species that are the subject of the permit; and (3) are consistent with the purposes and policies of section 2 of the ESA. The authority to take listed species is subject to conditions set forth in the permits.

Anyone requesting a hearing on an application listed in this notice should set out the specific reasons why a hearing on that application would be appropriate (see ADDRESSES). The holding of such a hearing is at the discretion of the Assistant Administrator for Fisheries, NOAA.

Applications Received

Permit 1203 Renewal

The Washington Department of Fish and Wildlife (WDFW) is seeking a 5-year research permit to annually take adult and juvenile UCR spring chinook salmon and steelhead in several tributaries to the upper Columbia River. The purposes of the research are to (1) assess the status (and production levels) of several salmonid stocks in the upper Columbia River and (2) evaluate salmonid habitat in the region to determine what effects various land use activities may have on it particularly hydraulic projects. The research would benefit fish by providing data on the survival of migrating juvenile salmonids, the abundance of adults on spawning grounds, the annual success of spawners, and the relative abundance of salmonids in the available habitat. That data would be used to help guide restoration and recovery activities as well as decrease the potential impact of certain land- and water use actions.

The WDFW intends to use electrofishing equipment, seines, dip nets, and hook-and-line angling to capture the fish. Most of the fish would be measured and released, but some may also be marked or tissue-sampled or both. The WDFW does not intend to kill any of the fish being captured, but a small percentage may die as an unintended result of the research.

Permit 1498

The Port of Bellingham (POB) is requesting a 3-year research permit to annually capture, handle, and release adult and juvenile PS chinook salmon and HC chum salmon. The research would take place in Bellingham Bay, Puget Sound, Washington. The purpose of the research is to determine the extent of fish use in shallow subtidal nearshore habitats. The POB intends to determine the extent to which salmonids use a newly created mitigating site. The research would benefit the fish by determining distribution and providing information that may help POB and others improve fish habitat near boatyards. The POB proposes to capture the fish using a purse seine or bottom trawl seine. The captured fish would be anesthetized, weighed and measured, allowed to recover, and released. The POB does not intend to kill any of the fish being captured, but a small percentage may die as an unintended result of the activities.

Permit 1502

The U.S. Forest Service (USFS) is requesting a 5-year research permit to annually capture, handle, and release juvenile UCR spring chinook and steelhead in the Wenatchee River drainage, Washington. The purposes of the research are to (1) monitor headwater stream conditions, (2) determine the effects land use activities have on the biological productivity of small, fishless streams in the upper watersheds, (3) relate that information to downstream habitats, and (4) determine whether upper watershed food web productivity is a key determinant of downstream fish community health. The research would benefit the fish by helping managers understand the relationship between upper-watershed food productivity and fish health in downstream areas. It would also serve as a new tool to help managers monitor watershed condition and the effectiveness of various restoration techniques in low-order streams.

The USFS intends to capture the fish using seines, baited minnow traps, and possibly some electrofishing. Most of the sampling would take place at the very upper limit of the fishes' range. Once captured, the fish would be measured, weighed, allowed to recover, and released. A subset of the captured fish would be marked with an elastomer tag, and another subset would undergo gastric lavage. The USFS does not intend to kill any of the fish being taken, but a small percentage may die as an unintended result of the activities.

Permit 1504

The Pacific Shellfish Institute (PSI) is requesting a 3-year research permit to annually capture, handle, and release juvenile PS chinook salmon and HC chum salmon. The research would take place in Puget Sound, Washington. The purpose of the research is to determine fish usage of shellfish aquaculture sites. The PSI intends collect information to assist them in determining the best shellfish production methods while protecting estuarine environments. The research would benefit the fish by providing information intended to reduce the impact shellfish aquaculture has on listed fish. The PSI proposes to capture the fish using pop-up nets. The captured fish would be counted, checked for tags and marks, measured, and released. The PSI does not intend to kill any of the fish being captured, but a small percentage may die as an unintended result of the activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: August 31, 2004.
Phil Williams,
Chief, Endangered Species Division, Office of Protected Resources, National Marine Fisheries Service.

[FR Doc. 04-20237 Filed 9-3-04; 8:45 am]

BILLING CODE 3510-22-S